DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding the eligibility to apply for trade adjustment assistance for workers (TA-W) issued during the period of December, 2000.

In order for an affirmative determination to be made and a certification of eligibility to apply for worker adjustment assistance to be issued, each of the group eligibility requirements of section 222 of the Act must be met.

(1) That a significant number or proportion of the workers in the workers' firm, or an appropriate subdivision thereof, have become totally or partially separated,

(2) that sales or production, or both, of the firm or subdivision have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,111; Standard Forged Products, Inc., Johnstown, PA

TA-W-38,209; Chieftain Products, Marine City, MI

TA-W-38,185; GP Timber, Central Point, OR

TA-W-38,146; Rosboro Lumber, Dimension Lumber Div., Springfield, OR

TA-W-38,147; Potlatch Corp., Wood Products Div.: Jaype Mill, Pierce, ID

TA-W-38,059; Crown Vantage, Parchment, MI

TA-W-38,080; Ilissa Bridals, Ltd, New York, NY

In the following cases, the investigation revealed that the criteria for eligibility have not been met for the reasons specified.

TA-W-38,264; The Chase Manhattan Bank NA, Oil and Gas Asset Management Group, Midland, TX

TA-W-38,215; Entertainment Partners, EPSG Pixpay Service, Burbank, CA

TA-W-38,355; LSC Kentucky, LLC, Morganfield, KY

TA-W-38,183; Seagate Technology, CSO Div., Oklahoma City, OK

TA-W-38,229; Dana Engine Controls, Branford, CT

The workers firm does not produce an article as required for certification under Section 222 of the Trade Act of 1974.

TA-W-38,329; Fashion Technologies, Inc., Hackensack, NJ

TA-W-38,112; The Mead Corp., School and Office Products Div., Kalamazoo, MI

TA-W-38,266; Jones and Vining, Lewiston, ME

TA-W-38,192; Metal Powder Products Co., Logan, OH

TA-W-38,216; Samsonite Corp., Tucson, AZ

TA-W-38,191; Windfall Products, St. Mary's, PA

TA-W-38,067 & A; Paccar/Kenworth, Seattle, WA and Renton, WA

TA-W-38,310; ABC-NACO, Ashland, WI

TA-W-38,113; Eramet Marietta, Inc., North Plant, Marietta, OH

TA-W-38,314; International Security Printers, Ogdensburg, NY

TA-W-38,317; Vanalco, Inc., Vancouver, WA

TA-W-38,242; Homestake Mining Co., Lead, SD

TA-W-38,043; Freightliner, LLC, Portland Truck Manufacturing Plant, Portland, OR

TA-W-38,024; Alabama Structural Beams, (A Div, of Gulf States Steel), Gadsden, AL

TA-W-38,053; Pillowtex Corp., Fieldale, VA

TA-W-38,150; Key Circuit Co., Fountain Valley, CA

TA-W-38,069; Asarco, Inc., East Helena, MT

TA-W-38,174; Paper, Calmenson & Co., Blade Div., Bucyrus, OH

TA-W-38,217; Union Pacific Fuel, Inc., Union Resources Co. and Union Pacific Resources Group, Inc., Headquartered in Fort Worth, TX and Operating in the Following States: A; CO, B; WY, C; OK, D; KS, E; LA, F; UT, G; TX

Increased imports did not contribute importantly to worker separations at the firm.

TA-W-38,098; Burlington Resources, Oil and Gas, Mid Continent—Rockies, Sidney, MT

In July through June 1999 and 2000, aggregate U.S. imports of both natural gas and crude oil declined absolutely and relative to domestic shipments.

TA-W-38,287; Poland Springs Bottling Co., Poland Springs, ME

TA-W-38,274; Tingley Rubber Co., South Plainfield, NJ

TA-W-38,928; Danecraft, Providence, RI

The investigation revealed that criteria (2) has not been met. Sales or production did not decline during the relevant period as required for certification.

TA-W-37,859; Hurwitz Co., Inc., Buffalo, NY

The investigation revealed that criteria (2) and criteria (3) have not been met. Sales or production did not decline during the relevant period as required for certification. Increases of imports of articles like or directly competitive with articles produced by the firm or an appropriate subdivision have not contributed importantly to the separations or threat thereof, and the absolute decline in sales or production.

Affirmative Determinations for Worker Adjustment Assistance

The following certifications have been issued; the date following the company name and location of each determination references the impact date for all workers of such determination.

TA-W-38,207; Bynum Concepts, Inc., Lubbock, TX: September 28, 1999.

TA-W-38,268; Ride Snowboard Mfg., Corona CA: October 18, 1999.

TA-W-38,032; JBL, Inc./Harmon Mfg., Wood Mill, Northridge, CA: August 9, 1999.

TA-W-38,221; Auto Pocket Operators, Outer Banks, Div. of Sara Lee Co., Lumberton, NC: October 3, 1999.

TA-W-38,074; Contour Medical Technology, Lavergne, TN: August 25, 1999.

TA-W-38,089; Federal Bag Co., Inc., St. Louis, MO: September 5, 1999.

TA-W-38,212; Echo Bay Minerals Co., Kettle River Operation, Republic, WA: September 22, 1999.

TA-W-38,166; Garan Manufacturing Corp., Rainsville, AL: September 14, 1999.

TA-W-38,144; Avoca Manufacturing, Avoca, PA: September 15, 1999.

TA-W-38,046; Paramount Headwear, Inc., Dexter Straw Manufacturing Div., Dexter, MO: August 25, 1999.

TA-W-38,247; North Power Lumber Co., A Subsidiary of Tree Source, North Power, OR: October 2, 1999.

TA-W-38,320; American Baseball Cap, Inc., Freidens, PA: October 6, 1999.

TA-W-38,021; Cardinal Shoe Corp., Lawrence, MA: August 8, 1999.

TA-W-38,054; Merrimac Industries, Inc., West Caldwell, NJ: August 11, 1999.

TA-W-38,352; Mulox, Inc., Macon, GA: November 13, 1999.

TA-W-38,307; Progress Lighting, Cowpens, SC: October 28, 1999.

TA-W-38,131; Imperial Coat Front, New York, NY: September 10, 1999.

TA-W-38,127; Ansell Health Care, Dothan, AL: September 25, 1999.

TA-W-38,161; Liberty Precision Tool Co., Bessemer City, NC: September 21, 1999.

TA-W-38,117; California Direct Service, San Diego, CA: September 13, 1999.

TA-W-37,978; Permair Leathers, Salem, MA: August 4, 1999.

TA-W-38,040; Reynolds Metals Co., Troutdale, OR: August 18, 1999.

TA-W-38,201; Tyco Electronics, Clinton Township, MI: September 28, 1999.

TA-W-38,163; Omron Manufacturing of America, Inc., St. Charles, IL: September 19, 1999.

TA-W-38,252; A.O. Smith Electrical Products Co., Paoli Plant, Paoli, IN: October 19, 1999.

TA-W-38,263; Columbia Footwear Corp., Hazleton, PA: October 21, 1999.

TA-W-38,285; Fairfield Manufacturing Co., Inc., Lafayette, IN: October 16, 1999.

TA-W-38,262; Paramount Headwear, Inc., Mountain Grove, MO: September 28, 1999.

TA-W-38,110; Authentic Fitness Corp., Bell, CA: September 6, 1999.

TA-W-38,091; American Metal Products, The Retail Div., Union, MO: August 31, 1999.

TA-W-38,254; Craftwood Designs, Caldwell Chair Co., Haleyville, CA: October 19, 1999.

TA-W-38,286; American Bag Corp., Stearns, KY: October 18, 1999.

TA-W-37,881; Hart Mountain Millworks, Inc., Conact Lujber Co., Inc., Lakeview, OR: June 29, 1999.

TA-W-38,306; Alstom Power, Heat Recovery Steam Generators Div., Kings Mountain, NC: November 6, 1999.

TA-W-38,339; Maytag, Jefferson City Component Parts Plant, Jefferson City, MO: November 8, 1999.

TA-W-38,319; Hit Apparel, Inc., Athens, TN: April 29, 2000.

TA-W-38,123 & A; Thaw Corp., Seattle, WA, Excluding the Cutting Dept., Kent, WA: September 6, 1999.

TA-W-38,276; Coach, Medley, FL: October 24, 1999.

TA-W-38,275; American Garment Finishers Corp., El Paso, TX: May 13, 2000.

TA-W-38,289; Grant Western Lumber Co., John Day, OR: October 25, 1999.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of December, 2000.

In order for an affirmative determination to be made and a certification of eligibility to apply for NAFTA-TAA the following group eligibility requirements of Section 250 of the Trade Act must be met:

(1) That a significant number of proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases import contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04254; Jakel, Inc., East Prairie, MO

NAFTA-TAA-04262; ABC-NACO, Ashland, WI

NAFTA-TAA-04274; Vanalco, Inc., Vancouver, WA

NAFTA-TAA-04192; ADM Milling Co., Milwaukee, WI

NAFTA-TAA-04256; Fairfield Manufacturing Co., Inc., Lafayette, IN

NAFTA-TAA-04265; Tingley Rubber Co., South Plainfield, NJ

NAFTA-TAA-04187; Metal Powder Products Co., Logan, OH

NAFTA-TAA-04185; Liberty Precision Tool Co., Inc., Bessemer City, NC

NAFTA-TAA-04148; The Mead Corp., School and Office Products Div., Kalamazoo, MI

NAFTA-TAA-04202; Samsonite Corp., Tucson, AZ

NAFTA-TAA-04253; Homestake Mining Co., Homestake Gold Mine, Lead, SD

NAFTA-TAA-04102; Freightliner LLC, Portland Truck Manufacturing Plant, Portland, OR

NAFTA-TAA-04147 & A; Paccar/Kenworth, Seattle, WA and Renton, WA

NAFTA-TAA-04009; Hart Mountain Millworks, Inc., Contact Lumber Co., Inc., Lakeview, OR

NAFTA-TAA-04122; Asarco, Inc., East Helena, MT

NAFTA-TAA-04221; Key Circuit Co., Fountain Valley, CA

NAFTA-TAA-04248; Union Pacific Fuels, Inc., Union Resources Co., and Union Pacific Resources Group, Inc., Headquartered in Fort Worth, TX and Operating in the following states: A; CO, B; WY, C; OK, D; KS, E: LA, F; Ut, G: TX

The investigation revealed that the criteria for eligibility have not been met for the reasons specified.

NAFTA-TAA-04203; Entertainment Partners, EPSG Pixpay Services, Burbank, CA

NAFTA-TAA-04252; Tri-Co Blueprint and Supply, Inc., Ventura, CA

NAFTA-TAA-04244; Robert Helmick, Inc., Kingston, ID

The investigation revealed that workers of the subject firm did not product an article within the meaning of Section 250(a) of the Trade Act, as amended.

NAFTA-TAA-04024; Portac, Inc., Tacoma, WA

The investigation revealed that criteria (1) has not been met. A significant number or proportion of the workers in such workers' firm or an appropriate subdivision (including workers in any agricultural firm or appropriate subdivision thereof) have become totally or partially separated from employment.

NAFTA-TAA-0450; Poland Springs Bottling Co., Poland Springs, MD

NAFTA-TAA-0408; Spreckels Sugar, Woodland, CA

The investigation revealed that criteria (2) has not been met. Sales or production did not decline during the relevant period as required for certification.

AFFIRMATIVE DETERMINATIONS NAFTA-TAA

NAFTA-TAA-04189; Talon, Inc., Commerce, CA: September 25, 1999.

NAFTA-TAA-04235; Precision Interconnect, Medical Cable Div., Waupin, WI: October 28, 1999.

NAFTA-TAA-04273; Hit Apparel, Inc., Athens, TN: April 29, 2000.

NAFTA-TAA-04205; North Powder Lumber Co., A Subsidiary of Tree Source, North Powder, OR: October 2, 1999.

NAFTA-TAA-04255; Exide Technologies, Automotive Battery Div., a/k/a GNB Batteries, Inc., a/k/a Exide Corp., Farmers Branch, TX: October 10, 1999.

NAFTA-TAA-04271; American Baseball Cap, Inc., Freidens, PA: October 6, 1999.

NAFTA-TAA-04285; Asten Johnson, Walterboro, SC: November 3, 1999.

NAFTA-TAA-04142; Fawn Industries, Maryille, TN: September 1, 1999.

NAFTA-TAA-04249; Autoliv ASP, Inc., Autoliv American Components, Including Leased Workers of Adecco Staffing Service Ogden, UT: October 23, 1999.

NAFTA-TAA-04212; Bay Club Sportswear, Inc., Copiague, NY: October 10, 1999.

NAFTA-TAA-04232; California Direct Service, San Diego, CA: September 13, 1999.

NAFTA-TAA-04144; Milliken and Company, Gaffney, SC: September 7, 1999.

NAFTA-TAA-04127; Paramount Headwear, Inc., Dexter Straw Manufacturing Div., Dexter, MO: August 28, 1999.

NAFTA-TAA-04315; Consolidated Metco, Inc., Rivergate Mfg. Plant, Portland, OR: November 13, 1999.

NAFTA-TAA-04215; Stanley Door Systems, The Stanley Works, San Dimas, CA: October 11, 1999.

NAFTA-TAA-04228; Contour Medical Technology, Lavergne, TN: September 27, 1999.

NAFTA-TAA-04110; JBL, Inc.,/Harmon Mfg., Wood Mill, Northridge, CA: August 9, 1999.

NAFTA-TAA-0487; Seattle Wash, Inc., Astro Design Div., Seattle, WA: August 9, 1999.

NAFTA-TAA-04325; Maytag, Jefferson City Component Parts Plant, Jefferson City, MO: November 22, 1999.

NAFTA-TAA-0458; and A; Thaw Corp., Seattle, WA and Excluding The Cutting Department, Kent, WA: September 6, 1999.

NAFTA-TAA-04261; Grant Western Lumber Co., John Day, OR: October 25, 1999.

NAFTA-TAA-04291; American Garment Finishers Corp., El Paso, TX: May 13, 2000.

NAFTA-TAA-04293; Artex International, St. George, UT: October 26, 1999.

NAFTA-TAA-04279; Alstom Power, Heat Recovery Steam Generators Div., Kings Mountain, NC: November 7, 1999.

I hereby certify that the aforementioned determinations were issued during the month of December, 2000. Copies of these determinations are available for inspection in Room C-5311, U.S. Department of Labor, 200 Constitution Avenue, NW., Washington, DC 20210 during normal business hours or will be mailed to persons who write to the above address.

Dated: December 13, 2000.
Edward A. Tomchick,
Director, Division of Trade Adjustment Assistance.

[FR Doc. 00-32585 Filed 12-20-00; 8:45 am]

BILLING CODE 4510-30-M